SECURITIES AND EXCHANGE COMMISSION

Sunshine Act Meeting

Notice is hereby given, pursuant to the provisions of the Government in the Sunshine Act, Pub. L. 94-409, that the Securities and Exchange Commission will hold the following additional meeting during the week of October 8, 2001: a closed meeting was held on Wednesday, October 10, 2001 at 2:00 p.m.

Commissioner Unger, as duty officer, determined that no earlier notice thereof was possible.

Commissioners, Counsel to the Commissioners, the Secretary to the Commission, and recording secretaries will attend the closed meeting. Certain staff members who have an interest in the matter may also be present.

The General Counsel of the Commission, or his designee, has certified that, in his opinion, one or more of the exemptions set forth in 5 U.S.C. 552b(c)(9)(A) and (10) and 17 CFR 200.402(a)(9)(i)(A), (9)(i)(B), and (10), permit consideration of the scheduled matter at the closed meeting.

The subject matters of the closed meeting held on Wednesday, October 10, 2001, was: a regulatory matter regarding financial institutions; and continuation of matters discussed at previous meeting.

At times, changes in Commission priorities require alterations in the scheduling of meeting items. For further information and to ascertain what, if any, matters have been added, deleted or postponed, please contact:

The Office of the Secretary at (202) 942-7070.

Dated: October 11, 2001.
Jonathan G. Katz,
Secretary.

[FR Doc. 01-26259 Filed 10-15-01; 12:05 am]

BILLING CODE 8010-01-M